DEPARTMENT OF TRANSPORTATION

Federal Aviation Administration

Agency Information Collection Activities: Requests for Comments; Clearance of Renewed Approval of Information Collection: Flight Engineers and Flight Navigators

AGENCY: Federal Aviation Administration (FAA), DOT.

ACTION: Notice and request for comments.

SUMMARY: In accordance with the Paperwork Reduction Act of 1995, FAA invites public comments about our intention to request the Office of Management and Budget (OMB) approval to renew an information collection. This collection involves FAA Form 8400.3, Application for an Airman Certificate and/or Rating, (for flight engineer and flight navigator) and applications for approval of related training courses that are submitted to FAA for evaluation. The information collection is necessary to determine applicant eligibility for flight engineer or flight navigator certificates. This collection is also necessary to determine training course acceptability for those schools training flight engineers or navigators.

DATES: Written comments should be submitted by September 21, 2018.

ADDRESSES: Send comments to the FAA at the following address: Barbara Hall, Federal Aviation Administration, ASP-110, 10101 Hillwood Parkway, Fort Worth, TX 76177.

FOR FURTHER INFORMATION CONTACT: Barbara Hall by email at: Barbara.L.Hall@faa.gov; phone: 940-594-5913.

SUPPLEMENTARY INFORMATION:

OMB Control Number: 2120-0007.

Title: Flight Engineers and Flight Navigators.

Form Numbers: 8400-3.

Type of Review: This is a renewal of an information collection.

Background: The information collection is necessary to determine applicant eligibility for flight engineer or flight navigator certificates. This collection is also necessary to determine training course acceptability for those schools training flight engineers or navigators. FAA Form 8400.3, Application for an Airman Certificate and/or Rating, (for flight engineer and flight navigator) and applications for approval of related training courses are available online and are submitted to FAA for evaluation. The information is reviewed to determine applicant eligibility and compliance with prescribed provisions of Title 14 CFR part 63, Certification: Flight Crewmembers Other Than Pilots. Form 8400-3 is multiple-use form also used for control tower operators and aircraft dispatchers.

Respondents: 143 certain airmen applicants and training schools.

Frequency: On occasion.

Estimated Average Burden per Response: 1.8 hours.

Estimated Total Annual Burden: 268.1 hours.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on July 17, 2018.
Karen Shutt
Manager, Performance, Policy, and Records Management Branch, ASP-110.

[FR Doc. 2018-15631 Filed 7-20-18; 8:45 am]

BILLING CODE 4910-13-P